DEPARTMENT OF AGRICULTURE

Commodity Credit Corporation

Agricultural Water Enhancement Program

AGENCY: Commodity Credit Corporation and Natural Resources Conservation Service, Department of Agriculture (USDA).

ACTION: Notice of request for proposals.

SUMMARY: Section 2510 of the Food, Conservation, and Energy Act of 2008 (2008 Act) established the Agricultural Water Enhancement Program (AWEP) by amending section 1240I of the Food Security Act of 1985. The Secretary of Agriculture delegated the authority for AWEP to the Chief of the Natural Resources Conservation Service (NRCS), who is a vice president of the Commodity Credit Corporation (CCC). NRCS is an agency of the U.S. Department of Agriculture (USDA). Up to $58.4 million in AWEP financial assistance is expected to be available in fiscal year 2009 for NRCS to enter into contracts with producers. The purpose of this notice is to inform agricultural producers of the availability of AWEP funds and to solicit proposals from potential partners who seek to enter into partnership agreements with the Chief to promote the conservation of ground and surface water and the improvement of water quality.

DATES: Proposals must be postmarked by March 2, 2009.

ADDRESSES: Proposals should be submitted to the Chief (Attn: Financial Assistance Programs Division), Natural Resources Conservation Service, USDA, AWEP Proposals, P.O. Box 2890, Washington, DC 20013 by March 2, 2009. Applicants also must send their proposal to the appropriate State Conservationist(s) postmarked, or dated if electronic, no later than March 2, 2009. To submit your application electronically, visit http://www.grants.gov/apply and follow the on-line instructions.

FOR FURTHER INFORMATION CONTACT: Greg Johnson, Director, Financial Assistance Programs Division, NRCS; phone: (202) 720-1845; fax: (202) 720-4265; or e-mail: AWEP2008@wdc.usda.gov; Subject: AWEP Proposal; or via Internet. Users can access the NRCS homepage at http://www.nrcs.usda.gov/; select the Farm Bill link from the menu; select the Notices link from beneath the Federal Register Notices Index title. Persons with disabilities who require alternative means for communication (Braille, large print, audio tape, etc.) should contact the USDA TARGET Center at: (202) 720-2600 (voice and TDD).

Catalogue of Federal Domestic Assistance (CFDA) Number: 10.912.

SUPPLEMENTARY INFORMATION: Availability of Funding:

Effective on the publication date of this notice, the CCC announces the availability, until September 30, 2009, of up to $58.4 million for AWEP financial assistance. NRCS will implement AWEP by entering into partnership agreements with eligible entities to conserve ground and surface water or improve water quality, or both, in their region. Partners submit complete proposals, as described in this notice, to the Chief, NRCS. Partnership agreement selection will be based on the criteria established in this notice. Once the Chief selects a partner's proposal, agricultural producers within the selected partner's project area may work through the partner to submit an AWEP contract application or submit a contract application directly to NRCS.

Entities are eligible to enter into partnership agreements. These entities include, but are not limited to, federally recognized Indian Tribes, States, units of local government, agricultural or silvicultural associations, other groups of such producers, such as an irrigation association, agricultural land trust, or other nongovernmental organization that has experience working with agricultural producers. All Federal funds awarded through this request for proposals (RFP) will be paid to producers. No Federal funding may be used to cover administrative expenses of partners. Administrative activities include any indirect or direct costs relating to submitting or implementing the project proposal.

Definitions:

Agricultural land means cropland, grassland, rangeland, pasture, and other agricultural land, on which agricultural and forest-related products or livestock are produced and resource concerns may be addressed. Other agricultural lands may include cropped woodland, marshes, incidental areas included in the agricultural operation, and other types of agricultural land used for production of livestock.

Agricultural water enhancement activity means the following, which are conducted in accordance with State water law:

• Water quality or water conservation plan development, including resource condition assessment and modeling.

• Water conservation restoration or enhancement projects, including the conversion to the production of less water-intensive agricultural commodities or dryland farming.

• Water quality or quantity restoration or enhancement projects.

• Irrigation system improvement and irrigation efficiency enhancements.

• Activities designed to mitigate the effects of drought, (e.g., construction, improvement, or maintenance of irrigation ponds, small on-farm reservoirs, or other agricultural water impoundment structures, which are designed to capture surface water runoff).

• Related activities that the Chief determines will help achieve water quality or water conservation benefits on agricultural land.

Chief means the Chief of NRCS, USDA.

Conservation practice means one or more conservation improvements and activities, including structural practices, land management practices, vegetative practices, forest management practices, and other improvements that are planned and applied according to NRCS standards and specifications.

Contract means a legal document that specifies the rights and obligations of any participant accepted to participate in the program. An AWEP contract is an agreement for the transfer of assistance from USDA to the participant to share in the costs of applying conservation practices.

Environmental Quality Incentives Program (EQIP) means a program administered by NRCS in accordance with 7 CFR 1466, which provides for the installation and implementation of conservation practices on agricultural and nonindustrial private forest land.

Exceptional Drought (D-4) means, as defined by the National Oceanic and Atmospheric Administration, exceptional widespread crop/pasture losses; exceptional fire risk; shortages of water in reservoirs, streams, and wells, creating water emergencies.

Field Office Technical Guide means the official local NRCS source of resource information and interpretation of guidelines, criteria, and requirements for planning and applying conservation practices and conservation management systems. It contains detailed information on the conservation of soil, water, air, plant, and animal resources applicable to the local area for which it is prepared.

Indian land is an inclusive term describing all lands held in trust by the United States for individual Indians or Tribes, or all lands, titles to which are held by individual Indians or Tribes, subject to Federal restrictions against alienation or encumbrance, or all lands which are subject to the rights of use, occupancy and/or benefit of certain Tribes. For purposes of this notice, the term Indian land also includes land for which the title is held in fee status by Indian Tribes, and the U.S. Government-owned land under Bureau of Indian Affairs jurisdiction.

Indian Tribe means any Indian Tribe, band, nation, or other organized group or community, including any Alaska Native village or regional or village corporation as defined in or established pursuant to the Alaska Native Claims Settlement Act (43 U.S.C. 1601 et seq.) that is federally recognized as eligible for the special programs and services provided by the United States to Indians because of their status as Indians.

Partner means an entity that enters into a partnership agreement with the Chief to carry out an agricultural water enhancement project. Partners that are eligible to participate in AWEP include, but are not limited to, federally recognized Indian Tribes, States, units of local government, agricultural or silvicultural associations, or other such groups of agricultural producers.

Partnership agreement means an agreement between the Chief and the partner that describes the duties and obligations of NRCS and the partner. It does not transfer financial assistance to a partner.

Payment means financial assistance provided to the participant for the estimated costs incurred for performing or implementing conservation practices, including costs for: planning, materials, equipment, labor, design and installation, maintenance, management, or training, as well as the estimated income foregone by the producer for designated conservation practices.

Producer means a person, legal entity, or joint operation who has an interest in the agricultural operation, according to 7 CFR 1400, or who is engaged in agricultural production or forest management.

Projects of Special Environmental Significance means projects, as determined by the Chief, which meet the following criteria:

• Site-specific evaluations have been completed, documenting that the project will have substantial positive impacts on critical resources in or near the project area (e.g., impaired water bodies, at-risk species, or air quality attainment);

• The project clearly addresses a national priority and State, Tribal, or local priorities, as applicable; and

• The project assists the participant in complying with Federal, State, and local regulatory requirements.

State Conservationist means the NRCS employee who is authorized to implement conservation programs, administered by NRCS, and who directs and supervises NRCS activities in a State, the Caribbean Area, or the Pacific Islands Area.

State Technical Committee means a committee established by the Secretary in a State pursuant to 16 U.S.C. 3861.

Technical assistance means technical expertise, information, and tools necessary for the conservation of natural resources on land active in agricultural, forestry, or related uses. The term includes the following: (1) Technical services provided directly to farmers, ranchers, and other eligible entities, such as conservation planning, technical consultation, and assistance with design and implementation of conservation practices; and 2) technical infrastructure, including activities, processes, tools, and agency functions needed to support delivery of technical services, such as technical standards, resource inventories, training, data, technology, monitoring, and effects analyses.

Technical Service Provider means an individual, private-sector entity, or public agency certified by NRCS, in accordance with 7 CFR 652, to provide technical services to program participants in lieu of or on behalf of NRCS.

Overview of the Agricultural Water Enhancement Program

Background

The Agricultural Water Enhancement Program (AWEP) is a voluntary conservation program that provides financial and technical assistance to agricultural producers to implement agricultural water enhancement activities on agricultural land for the purposes of conserving surface and ground water and improving water quality. As part of the Environmental Quality Incentives Program (EQIP), AWEP operates through contracts with producers to plan and implement conservation practices to conserve ground and surface water and improve water quality in project areas established through partnership agreements. Producers may participate individually in AWEP, or collectively through a partnership project. For example, the role of the partner may be to facilitate the submission of producers' applications, or it may be to provide additional technical or financial assistance to participating agricultural producers. AWEP funding will be delivered to producers; no AWEP funding may be used to cover the administrative expenses of partners.

Producer Applications and Contracts

Agricultural producers in selected project areas may apply for available AWEP funds at their local United States Department of Agriculture (USDA) service center or on-line at: http://www.grants.gov/apply, using the on-line instructions. Once an application is selected, an eligible agricultural producer will enter into a contract with NRCS to implement agricultural water enhancement activities. Through these contracts, NRCS provides payments to agricultural producers for implementing conservation practices. The contract term will be for a minimum duration of one year after completion of the last practice, but not more than 10 years. In States with water quantity concerns, where the partner proposal includes the conversion of agricultural land from irrigated farming to dryland farming, NRCS may enter into contracts, through which a producer receives payments for such activity for up to five years, when applying through a State partner and such activities are consistent with State law. An agricultural producer may elect to use a technical service provider for technical assistance. A participant may not receive, directly or indirectly, payments that, in the aggregate, exceed $300,000. NRCS may waive this limitation up to $450,000 for projects of special environmental significance, as determined by the Chief. All agricultural producers receiving assistance through AWEP must meet EQIP eligibility requirements and will be subject to EQIP payment limitations. Participating AWEP producers are not required to have an existing EQIP contract, although they must be determined eligible for EQIP assistance prior to entering into an AWEP contract. For information on the limitations and benefits that apply to land and agricultural producers enrolled in the AWEP program, please consult EQIP's authorizing legislation (16 U.S.C. 3839aa) and regulation (7 CFR 1466) (http://www.nrcs.usda.gov/programs/eqip).

Submitting Partnership Proposals

Potential partners must submit proposals that contain the information set forth in “Proposal Requirements” to receive consideration for entering into partnership agreements. The potential partner must submit a complete proposal, including letters of review from the appropriate State Conservationists, to the Chief, as specified in this notice. In providing letters of review for partner proposals, the State Conservationist may consult with the State Technical Committee (established pursuant to 16 U.S.C. 3861) to evaluate the merits of the proposals.

The Chief will review and evaluate the proposals based on the criteria provided in this notice. Incomplete proposals and those that do not meet the requirements set forth in this notice will not be considered, and notification of elimination will be mailed to the applicant.

Entity and Land Eligibility

Entities that are eligible to enter into AWEP partnership agreements include, but are not limited to, federally recognized Indian Tribes, States, units of local government, agricultural or silvicultural associations, or other groups of such producers, such as an irrigation association, agricultural land trust, or other nongovernmental organization that has experience working with agricultural producers. The following land is eligible for enrollment in the AWEP:

• Private agricultural land:

• For agricultural lands not irrigated for two of the previous five years, the construction, improvement, or maintenance of irrigation ponds, small on-farm reservoirs, or other agricultural water impoundment structures, which are designed to capture surface water runoff, are eligible only in an area that is experiencing or has experienced exceptional drought conditions between June 18, 2006 and June 18, 2008.

• Indian land; and

• Publicly owned land where:

• The conservation practices to be implemented on the public land are necessary and will contribute to an improvement in the identified resource concern that is on private land; and

• The land is a working component of the participant's agricultural and forestry operation; and

• The participant has control of the land for the term of the contract.

Partnership Proposal Requirements

To participate in AWEP, a potential partner must submit a proposal to the Chief. The proposal must contain the information set forth below in order to receive consideration:

1. Partnership capacity: Potential partners must describe their project and their record of working with agricultural producers to address water quality and quantity issues.

Information provided in the proposal must:

(a) Demonstrate a commitment by the partner to the long-term conservation of surface and ground water or water quality improvement;

(b) Demonstrate the ability to coordinate water quality and quantity efforts among agricultural producers;

(c) Demonstrate the availability of non-Federal matching funds or other resources being contributed;

(d) Demonstrate the ability to monitor and evaluate project effects on natural resources;

(e) Demonstrate the capacity to deliver a final project performance report;

(f) Identify potential criteria to be used by NRCS to prioritize and rank agricultural producers' AWEP applications in the project area;

(g) Describe the partners collaborating to achieve the project objectives and the roles, responsibilities, and capabilities of each partner;

(h) Describe the proposed agricultural water enhancement activities to be applied within the designated five-year timeframe;

(i) Describe the amount of funds needed annually for producer contracts;

(j) Describe the amount and source of non-Federal funds or other resources that are anticipated to be leveraged by AWEP;

(k) Identify the project funding NRCS is requested to provide through AWEP; and

(l) Provide a project implementation schedule.

2. Lands to be treated: The proposal should describe the geographic area to be covered by the partnership agreement. Specifically, the proposal should include:

(a) A map showing the proposed project area(s);

(b) A description of the agricultural water quality or water conservation issues to be addressed by the partnership agreement;

(c) A description of the agricultural water enhancement objectives to be achieved through the partnership;

(d) The total number of acres anticipated to need conservation treatment; and

(e) The proposed agricultural water enhancement activities that may be implemented.

3. Producer Information: The partner must identify:

(a) The number of agricultural producers that are likely to participate in the project; and

(b) The total number of agricultural producers in the project area.

4. Letter of review: Potential partners must include a copy of the cover letter showing that the proposal was sent to the appropriate State Conservationist(s) for review. If a project is multi-state in scope, all State Conservationists in the project area must be sent the proposal for review. The State Conservationist(s) will review the proposal for potential duplication of efforts, consistency with overall EQIP objectives, and the expected benefits to EQIP implementation in their State(s). Applicants must send their proposal to the appropriate State Conservationist in accordance with the proposals submission instructions. State Conservationist(s) must submit letters to NRCS National Headquarters by March 2, 2009. A list of NRCS State Office addresses and phone numbers is included at the end of this notice. Potential partners are encouraged to consult with the appropriate State Conservationist(s) during proposal development to discuss the letter of review.

5. Potential partners should submit project action plans and schedules, not to exceed five years, detailing activities, including timeframes related to project milestones and monitoring and evaluation activities. The project action plan should describe how often the potential partner plans to monitor and evaluate the project and how it plans to quantify the results of the project for the final project performance report.

Ranking Considerations

The Chief will evaluate the proposals using a competitive process. The Chief may give a higher priority to proposals that:

• Include high percentages of agricultural land and producers in a region or other appropriate area;

• Result in high levels of applied agricultural water quality and water conservation activities;

• Significantly enhance agricultural activity;

• Allow for monitoring and evaluation;

• Assist agricultural producers in meeting a regulatory requirement that reduces the economic scope of the producer's operation;

• Achieve the project's land and water treatment objectives within five years or less;

• For proposals from states with water quantity concerns:

• Assist producers in states with water quantity concerns, as determined by the Chief;

• Include the conversion of agricultural land from irrigated farming to dryland farming;

• Leverage Federal funds provided under the program with funds provided by partners; or

• Are located in the following regions: Eastern Snake Plain Aquifer, Puget Sound, Ogallala Aquifer, Sacramento River Watershed, Upper Mississippi River Basin, Red River of the North Basin, or Everglades.

Partnership Agreements

The Chief will enter into a partnership agreement with a selected partner. The partnership agreement will not obligate funds, but will address:

• Agricultural water enhancement activities anticipated to be applied;

• The role of NRCS;

• The responsibilities of the partner related to the monitoring and evaluation of project performance;

• The frequency and duration of the monitoring and evaluation of project performance;

• The content and format of the final project performance report that is required as a condition of the agreement;

• The specified project schedule; and

• Other requirements deemed necessary by NRCS to achieve the purposes of AWEP.

Once the Chief has entered into a partnership agreement with a partner, NRCS will enter into contracts directly with agricultural producers participating in the project and other eligible producers within the project area. Participating producers must meet all EQIP eligibility requirements (7 CFR 1466.8).

Waiver Authority

To assist in the implementation of agricultural water enhancement activities under the program, the Chief may waive the applicability of the Adjusted Gross Income Limitation (AGI), on a case-by-case basis in accordance with policy and processes promulgated in 7 CFR 1400. Such waiver requests must be submitted to the Chief at the address listed in this notice.

Signed in Washington, DC on January 8, 2009.
Arlen L. Lancaster,
Vice President, Commodity Credit Corporation and Chief, Natural Resources Conservation Service.

NRCS State Conservationists

Alabama: Gary Kobylski, 3381 Skyway Drive, Post Office Box 311, Auburn, AL 36830, Phone: (334) 887-4535, Fax: (334) 887-4551, gary.kobylski@al.usda.gov.

Alaska: Robert Jones, Atrium Building, Suite 100, 800 West Evergreen, Palmer, AK 99645-6539, Phone: (907) 761-7760, Fax: (907) 761-7790, robert.jones@ak.usda.gov.

Arizona: David McKay, 230 N. First Avenue, Suite 509, Phoenix, AZ 85003-1733, Phone: (602) 280-8801, Fax: (602) 280-8809, david.mckay@az.usda.gov.

Arkansas: Kalven L. Trice, Federal Building, Room 3416, 700 West Capitol Avenue, Little Rock, AR 72201-3228, Phone: (501) 301-3100, Fax: (501) 301-3194, kalven.trice@ar.usda.gov.

California: Lincoln E. Burton, Suite 4164, 430 G Street, Davis, CA 95616-4164, Phone: (530) 792-5600, Fax: (530) 792-5790, ed.burton@ca.usda.gov.

Caribbean Area: Juan A. Martinez, Director, IBM Building, Suite 604, 654 Munoz Rivera Avenue, Hato Rey, PR 00918-4123, Phone: (787) 766-5206, Fax: (787) 766-5987, juan.martinez@pr.usda.gov.

Colorado: James Allen Green, Room E200C, 655 Parfet Street, Lakewood, CO 80215-5521, Phone: (720) 544-2810, Fax: (720) 544-2965, allen.green@co.usda.gov.

Connecticut: Douglas Zehner, 344 Merrow Road, Suite A, Tolland, CT 06084, Phone: (860) 871-4011, Fax: (860) 871-4054, doug.zehner@ct.usda.gov.

Delaware: Russell Morgan, Suite 100, 1221 College Park Drive, Dover, DE 19904-8713, Phone: (302) 678-4160, Fax: (302) 678-0843, russell.morgan@de.usda.gov.

Florida: Carlos Suarez, 2614 N.W. 43rd Street, Gainesville, FL 32606-6611, Phone: (352) 338-9500, Fax: (352) 338-9574, carlos.suarez@fl.usda.gov.

Georgia: James Tillman, Federal Building, Stop 200, 355 East Hancock Avenue, Athens, GA 30601-2769, Phone: (706) 546-2272, Fax: (706) 546-2120, james.tillman@ga.usda.gov.

Pacific Islands Area: Lawrence T. Yamamoto, Room 4-118, 300 Ala Moana Boulevard, Honolulu, HI 96850-0002, Phone: (808) 541-2600, Ext. 100, Fax: (808) 541-1335, larry.yamamoto@hi.usda.gov.

Idaho: Jeff Burwell, Suite C, 9173 West Barnes Drive, Boise, ID 83709, Phone: (208) 378-5700, Fax: (208) 378-5735, jeffery.burwell@id.usda.gov.

Illinois: William J. Gradle, 2118 W. Park Court, Champaign, IL 61821, Phone: (217) 353-6600, Fax: (217) 353-6676, bill.gradle@il.usda.gov.

Indiana: Jane E. Hardisty, 6013 Lakeside Blvd., Indianapolis, IN 46278-2933, Phone: (317) 290-3200, Fax: (317) 290-3225, jane.hardisty@in.usda.gov.

Iowa: Richard Sims, 693 Federal Building, Suite 693, 210 Walnut Street, Des Moines, IA 50309-2180, Phone: (515) 284-6655, Fax: (515) 284-4394, richard.sims@ia.usda.gov.

Kansas: Eric Banks, 760 South Broadway, Salina, KS 67401-4642, Phone: (785) 823-4500, Fax: (785) 452-3369, eric.banks@ks.usda.gov.

Kentucky: Tom Perrin, Suite 210, 771 Corporate Drive, Lexington, KY 40503-5479, Phone: (859) 224-7350, Fax: (859) 224-7399, tom.perrin@ky.usda.gov.

Louisiana: Kevin Norton, 3737 Government Street, Alexandria, LA 71302, Phone: (318) 473-7751, Fax: (318) 473-7626, kevin.norton@la.usda.gov.

Maine: Joyce Swartzendruber, Suite 3, 967 Illinois Avenue, Bangor, ME 04401, Phone: (207) 990-9100, Ext. 3, Fax: (207) 990-9599, joyce.swartzendruber@me.usda.gov.

Maryland: Jon Hall, John Hanson Business Center, Suite 301, 339 Busch's Frontage Road, Annapolis, MD 21409-5543, Phone: (410) 757-0861 Ext. 315, Fax: (410) 757-6504, jon.hall@md.usda.gov.

Massachusetts: Christine Clarke, 451 West Street, Amherst, MA 01002-2995, Phone: (413) 253-4351, Fax: (413) 253-4375, christine.clarke@ma.usda.gov.

Michigan: Garry Lee, Suite 250, 3001 Coolidge Road, East Lansing, MI 48823-6350, Phone: (517) 324-5270, Fax: (517) 324-5171, garry.lee@mi.usda.gov.

Minnesota: William Hunt, Suite 600, 375 Jackson, St. Paul, MN 55101-1854, Phone: (651) 602-7900, Fax: (651) 602-7913, william.hunt@mn.usda.gov.

Mississippi: Homer L. Wilkes, Suite 1321, Federal Building, 100 West Capitol Street, Jackson, MS 39269-1399, Phone: (601) 965-5205 ext.130, Fax: (601) 965-4940, homer.wilkes@ms.nrcs.usda.gov.

Missouri: Roger A. Hansen, Parkade Center, Suite 250, 601 Business Loop 70 West, West Columbia, MO 65203-2546, Phone: (573) 876-0901, Fax: (573) 876-0913, roger.hansen@mo.usda.gov.

Montana: Jon Hempel, Acting, Federal Building, Room 443, 10 East Babcock Street, Bozeman, MT 59715-4704, Phone: (406) 587-6811, Fax: (406) 587-6761, jon.hempel@one.usda.gov.

Nebraska: Stephen K. Chick, Federal Building, Room 152, 100 Centennial Mall N., Lincoln, NE 68508-3866, Phone: (402) 437-5300, Fax: (402) 437-5327, steve.chick@ne.usda.gov.

Nevada: Bruce Petersen, 1365 Corporate Blvd, Reno, NV 89502, Phone: (775) 857-8500 x. 102, Fax: (775) 857-8524, bruce.petersen@nv.usda.gov.

New Hampshire: George W. Cleek, IV, Federal Building, 2 Madbury Road, Durham, NH 03824-2043, Phone: (603) 868-9931, Ext. 125, Fax: (603) 868-5301, george.cleek@nh.usda.gov.

New Jersey: Thomas Drewes, 220 Davidson Avenue, 4th Floor, Somerset, NJ 08873-3157, Phone: (732) 537-6040, Fax: (732) 537-6095, thomas.drewes@nj.usda.gov.

New Mexico: Dennis Alexander, Suite 305, 6200 Jefferson Street, NE., Albuquerque, NM 87109-3734, Phone: (505) 761-4400, Fax: (505) 761-4481, dennis.alexander@nm.usda.gov.

New York: Astor Boozer, Suite 354, 441 South Salina Street, Syracuse, NY 13202-2450, Phone: (315) 477-6504, Fax: (315) 477-6560, astor.boozer@ny.usda.gov.

North Carolina: Mary K. Combs, 4407 Bland Road, Suite 117, Raleigh, NC 27609-6293, Phone: (919) 873-2101, Fax: (919) 873-2156, mary.combs@nc.usda.gov.

North Dakota: J.R. Flores, Jr., Federal Building Room 270, 220 E. Rosser Avenue, Bismarck, ND 58501-1458, Phone: (701) 530-2000, Fax: (701) 530-2110, jr.flores@nd.usda.gov.

Ohio: Terry Cosby, Room 522, 200 North High Street, Columbus, OH 43215-2478, Phone: (614) 255-2472, Fax: (614) 255-2548, terry.cosby@oh.usda.gov.

Oklahoma: Ronald L. Hilliard, 100 USDA, Suite 206, Stillwater, Oklahoma 74074-2655, Phone: (405) 742-1204, Fax: (405) 742-1126, ron.hilliard@ok.usda.gov.

Oregon: Ron Alvarado, 1201 NE Lloyd Blvd., Suite 900, Portland, OR 97232, Phone: (503) 414-3200, Fax: (503) 414-3103, ron.alvarado@or.usda.gov.

Pennsylvania: Craig Derickson, Suite 340, One Credit Union Place, Harrisburg, PA 17110-2993, Phone: (717) 237-2203, Fax: (717) 237-2238, craig.derickson@pa.usda.gov.

Rhode Island: Paul Sweeney, Acting, Suite 46, 60 Quaker Lane, Warwick, RI 02886-0111, Phone: (401) 828-1300 ext. 844, Fax: (401) 828-0433, michelle.moore@ri.usda.gov.

South Carolina: Niles Glasgow, Strom Thurmond Federal Building, Room 950, 1835 Assembly Street, Columbia, SC 29201-2489, Phone: (803) 253-3935, Fax: (803) 253-3670, niles.glasgow@sc.usda.gov.

South Dakota: Janet L. Oertly, 200 Fourth Street SW., Huron, SD 57350-2475, Phone: (605) 352-1200, Fax: (605) 352-1288, janet.oertly@sd.usda.gov.

Tennessee: J. Kevin Brown, 675 U.S. Courthouse, 801 Broadway, Nashville, TN 37203-3878, Phone: (615) 277-2531, Fax: (615) 277-2578, kevin.brown@tn.usda.gov.

Texas: Salvador Salinas, Acting, W.R. Poage Federal Building, 10l South Main Street, Temple, TX 76501-7602, Phone: (254) 742-9800, Fax: (254) 742-9819, salvador.salinas@tx.usda.gov.

Utah: Sylvia Gillen, W.F. Bennett Federal Building, Room 4402, 125 South State Street, Salt Lake City, UT 84138-1100, Phone: (801) 524-4555, Fax: (801) 524-4403, sylvia.gillen@ut.usda.gov.

Vermont: Judith Doerner, Suite 105, 356 Mountain View Drive, Colchester, VT 05446, Phone: (802) 951-6795 ext. 228, Fax: (802) 951-6327, judy.doerner@vt.usda.gov.

Virginia: Jack Bricker, Culpeper Building, Suite 209, 1606 Santa Rosa Road, Richmond, VA 23229-5014, Phone: (804) 287-1691, Fax: (804) 287-1737, jack.bricker@va.usda.gov.

Washington: Roylene Rides at the Door, Rock Pointe Tower II, Suite 450, W. 316 Boone Avenue, Spokane, WA 99201-2348, Phone: (509) 323-2900, Fax: (509) 323-2909, roylene.rides-at-the-door@wa.usda.gov.

West Virginia: Kevin Wickey, Room 301, 75 High Street, Morgantown, WV 26505, Phone: (304) 284-7540, Fax: (304) 284-4839, kevin.wickey@wv.usda.gov.

Wisconsin: Patricia S. Leavenworth, 8030 Excelsior Drive, Suite 200, Madison, WI 53717, Phone: (608) 662-4422, Fax: (608) 662-4430, pat.leavenworth@wi.usda.gov.

Wyoming: Xavier Montoya, P.O. Box 33124, Casper, WY 82602, Phone: (307) 233-6750, Fax: (307) 233-6753, xavier.montoya@wy.usda.gov.

[FR Doc. E9-504 Filed 1-13-09; 8:45 am]

BILLING CODE 3410-16-P